NUCLEAR REGULATORY COMMISSION

[NRC-2016-0053, NRC-2014-0119, and NRC-2016-0158]

Program-Specific Guidance About Possession Licenses for Manufacturing and Distribution, Program-Specific Guidance About Well Logging, Tracer, and Field Flood Study Licenses, and Program-Specific Guidance About Possession Licenses for Production of Radioactive Material Using an Accelerator

AGENCY: Nuclear Regulatory Commission.

ACTION: NUREG; issuance.

SUMMARY: The U.S. Nuclear Regulatory Commission (NRC) has issued Revision 1 to NUREG-1556, Volume 12, “Consolidated Guidance About Materials Licenses: Program Specific Guidance About Possession Licenses for Manufacturing and Distribution;” NUREG-1556, Volume 14, “Consolidated Guidance About Materials Licenses: Program-Specific Guidance About Well Logging, Tracer, and Field Flood Study Licenses;” and NUREG-1556, Volume 21, “Consolidated Guidance About Materials Licenses: Program-Specific Guidance About Possession Licenses for Production of Radioactive material Using an Accelerator.” NUREG-1556, Volumes 12, 14, and 21 have been revised to include information on updated regulatory requirements, safety culture, security of radioactive materials, protection of sensitive information, and changes in regulatory policies and practices. These volumes are intended for use by applicants, licensees, and the NRC staff.

DATES: NUREG-1556, Volume 14, Revision 1, was published in April 2018, and NUREG-1556, Volumes 12 and 21, Revision 1, were published in May 2018.

ADDRESSES: Please refer to Docket ID NRC-2016-0053 (NUREG-1556, Vol. 12, Rev. 1), Docket ID NRC-2014-0119 (NUREG-1556, Vol. 14, Rev. 1) and NRC-2016-0158 (NUREG-1556, Vol. 21, Rev. 1) when contacting the NRC about the availability of information regarding these documents. You may obtain publicly-available information related to these documents using any of the following methods:

• Federal Rulemaking website: Go to http://www.regulations.gov and search for Docket ID NRC-2016-0053, NRC-2014-0119, or NRC-2016-0158. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-1556, Volumes 12, 14, and 21, Revision 1, are located in ADAMS under Accession Numbers ML18136A704, ML18120A129, and ML18143A670, respectively. These documents are also available on the NRC's public website at http://www.nrc.gov/reading-rm/doc-collections/nuregs/staff/sr1556/ under “Consolidated Guidance about Materials Licenses (NUREG-1556).”

• NRC's PDR: You may examine and purchase copies of public documents at the NRC's PDR, Room O1-F21, One White Flint North, 11555 Rockville Pike, Rockville, Maryland 20852.

FOR FURTHER INFORMATION CONTACT: Anthony McMurtray, Office of Nuclear Material Safety and Safeguards, U.S. Nuclear Regulatory Commission, Washington, DC 20555-0001; telephone: 301-415-2746; email: Anthony.McMurtray@nrc.gov.

SUPPLEMENTARY INFORMATION:

I. Discussion

The NRC issued revisions to NUREG-1556, Volumes 12, 14, and 21, to provide guidance to existing materials licensees covered under these types of licenses and to applicants preparing an application for one of these types of materials licenses. These NUREG volumes also provide the NRC staff with criteria for evaluating these types of license applications. The purpose of this notice is to notify the public that the NUREG-1556 volumes listed in this Federal Register notice were issued as final reports.

II. Additional Information

The NRC published notices of the availability of the draft report for comment in the Federal Register for NUREG-1556, Volume 12, Revision 1 on July 13, 2016 (81 FR 45308), NUREG-1556, Volume 14, Revision 1 on June 11, 2014 (79 FR 33600), and NUREG-1556, Volume 21, Revision 1 on December 16, 2016 (81 FR 91206). Each of these volumes were published for a public comment period that was at least 30 days. The public comment period for Volume 12 closed on August 26, 2016, for Volume 14 on July 11, 2014, and for Volume 21 on February 24, 2017. Public comments and the NRC staff responses to the public comments for NUREG-1556, Volume 12, Revision 1 are available under ADAMS Accession No. ML18010B155. Public comments and the NRC staff responses to the public comments for NUREG-1556, Volume 14, Revision 1 are available under ADAMS Accession No. ML18023B550. Public comments and the NRC staff responses to the public comments for NUREG-1556, Volume 21, Revision 1 are available under ADAMS Accession No. ML17334A206.

III. Congressional Review Act

These NUREG volumes are rules as defined in the Congressional Review Act (5 U.S.C. 801-808). However, the Office of Management and Budget has not found these NUREG revisions to be major rules as defined in the Congressional Review Act.

Dated at Rockville, Maryland, this 3rd day of July 2018.
For the Nuclear Regulatory Commission.
Daniel S. Collins,
Director, Division of Materials Safety, Security, State and Tribal Programs, Office of Nuclear Material Safety and Safeguards.

[FR Doc. 2018-14696 Filed 7-9-18; 8:45 am]

BILLING CODE 7590-01-P